DEPARTMENT OF THE INTERIOR

Fish and Wildlife Service

National Key Deer Refuge; Key West, Great White Heron, and Crocodile Lake National Wildlife Refuges

AGENCY: Fish and Wildlife Service, Interior.

ACTION: Notice of Intent to Prepare Comprehensive Conservation Plans and Environmental Assessments for National Key Deer Refuge; Key West, Great White Heron, and Crocodile Lake National Wildlife Refuges in Florida.

SUMMARY: This notice advises the public that the Fish and Wildlife Service, Southeast Region, intends to gather information necessary to prepare comprehensive conservation plans and environmental assessments pursuant tot he National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on on the scope of issues to include in the environmental documents.

Special mailings, newspaper articles, and other media announcements will be used to inform the public and government and non-government agencies of the opportunities for input throughout the planning process.

ADDRESSES: Address comments, questions, and requests for more information to the following: Van Fischer, Natural Resource Planner, National Key Deer Refuge, 28950 Watson Boulevard, Big Pine Key, Florida 33043-0510, Telephone 305/872-2239; Fax 305/872-3675; E-mail Van_Fisher@fws.gov. Additional information concerning these refuges may be found at the Service's Internet site http:///www.fws.gov.

SUPPLEMENTARY INFORMATION: Federal law, all lands within the National Wildlife Refuge System are to be managed in accordance with an approved comprehensive conservation plan. The plan guides management decisions and identifies refuge goals, long-range objectives, and strategies for achieving refuge purpose. The planning process will consider many elements including wildlife and habitat management, public recreational activities, and cultural resource protection. Public input into the planning process is essential.

Crocodile Lake National Wildlife Refuge was established in 1980, to provide wildlife and habitat protection for federally listed threatened and endangered species and migratory birds. A draft comprehensive conservation plan is expected to be completed for this refuge by June 2004.

Key West and Great White Heron National Wildlife Refuges were established in 1908 and 1938 respectively, to protect herons and egrets from plume hunters. National Key Deer Refuge was established in 1957, to protect the endangered Key Deer and other wildlife. Each of the refuges is located in Monroe County, Florida.

As the draft plans for these refuges are completed, reviews will be conducted in accordance with the requirements of the National Environmental Policy Act of 1969, as amended (41 U.S.C. 4321 et seq.), NEPA regulations (40 CFR parts 1500-1508), other appropriate Federal laws and regulations, and Service policies and procedures for compliance with those regulations.

Authority: This notice is published under the authority of the National Wildlife Refuge System Improvement Act of 1997, Public Law 105-57.

Dated: March 31, 2003.
Christine E. Eustis,
Acting Regional Director.

[FR Doc. 03-11534 Filed 5-8-03; 8:45 am]

BILLING CODE 4310-55-M